DEPARTMENT OF EDUCATION

Privacy Act of 1974; System of Records

AGENCY: Office of the Inspector General, U.S. Department of Education.

ACTION: Notice of an altered system of records.

SUMMARY: In accordance with the Privacy Act of 1974, as amended (Privacy Act), the Department of Education (Department) publishes this notice to revise the system of records notice for the Office of the Inspector General Data Analytics System (18-10-02). The Department amends this system of records notice by: (1) Clarifying the purposes of the system and adding that a purpose of the system is to coordinate relationships with other Federal, State, local, or foreign agencies or other public authorities responsible for assisting in the investigation, prosecution, oversight, or enforcement of violations of administrative, civil, or criminal law or regulations; (2) proposing to revise routine use (1), “Disclosure for Use by Other Law Enforcement Agencies,” to allow for the disclosure of information to a Federal, State, local, or foreign agency or other public authority responsible for assisting the Department in the investigation, prosecution, oversight, or enforcement of violations of administrative, civil, or criminal law or regulations; (3) proposing to revise routine use (12), “Disclosure to the President's Council on Integrity and Efficiency (PCIE),” to allow disclosure to its successor entity, the Council of Inspectors General for Integrity and Efficiency or any successor entity; (4) revising the safeguards of the system to allow data in the system to be accessed by authorized users; and, (5) updating the person listed as the System Manager.

DATES: The Department seeks comments on the revised routine uses of the information in the altered system of records described in this notice, in accordance with the requirements of the Privacy Act. We must receive your comments on or before June 13, 2012.

The Department filed a report describing the altered system of records covered by this notice with the Chair of the Senate Committee on Homeland Security and Governmental Affairs, the Chair of the House Committee on Oversight and Government Reform, and the Administrator of the Office of Information and Regulatory Affairs, Office of Management and Budget (OMB) on May 9, 2012. This altered system of records will become effective at the later date of—(1) The expiration of the 40-day period for OMB review on June 18, 2012 unless OMB waives 10 days of its 40-day review period, in which case on June 8, 2012, or (2) June 13, 2012, unless the system of records needs to be changed as a result of public comment or OMB review. The Department will publish any changes to the revised routine use that results from public comment or OMB review of this notice.

ADDRESSES: Address all comments about the proposed routine uses to this altered system of records to Charles Coe, Assistant Inspector General for Information Technology Audits and Computer Crime Investigations, Office of Inspector General, U.S. Department of Education, 400 Maryland Avenue SW., Room 8129, Potomac Center Plaza (PCP) building, Washington, DC 20202-1510. If you prefer to send comments by email, use the following address: comments@ed.gov.

You must include the term “OIG Data Analytics System” in the subject line of your electronic message.

During and after the comment period, you may inspect all public comments about this notice at the U.S. Department of Education, PCP Building, Room 8166, 500 12th Street SW., Washington, DC 20202-0028, between the hours of 8:00 a.m. and 4:30 p.m., Eastern time, Monday through Friday of each week except Federal holidays.

Assistance to Individuals With Disabilities in Reviewing the Rulemaking Record

On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Shelley Shepherd, Assistant Counsel to the Inspector General, 400 Maryland Avenue SW., room 8166, PCP building, Washington, DC 20202-1510. Telephone: (202) 245-7077. If you use a telecommunications device for the deaf (TDD) or a text telephone (TTY), you can call the Federal Relay Service (FRS) at 1-800-877-8339.

SUPPLEMENTARY INFORMATION:

Introduction

The Privacy Act (5 U.S.C. 552a) requires the Department to publish in the Federal Register this notice of an altered system of records (5 U.S.C. 552a(e)(4) and (11)). The Department's regulations implementing the Privacy Act are contained in the Code of Federal Regulations (CFR) in 34 CFR part 5b. The Department first published notice of the Office of the Inspector General Data Analytics System (18-10-02) in the Federal Register on October 16, 2008 (73 FR 61406).

The Privacy Act applies to information about an individual that contains individually identifying information that is retrieved by a unique identifier associated with each individual, such as a name or social security number. The information about each individual is called a “record,” and the system, whether manual or computer-based, is called a “system of records.”

The Privacy Act requires each agency to publish a notice of a system of records in the Federal Register and to prepare a report to OMB whenever the agency publishes a new system of records or makes a significant change to an established system of records. Each agency is also required to send copies of the report to the Chair of the Senate Committee on Homeland Security and Governmental Affairs and the Chair of the House Committee on Oversight and Government Reform. The report is intended to permit an evaluation of the probable or potential effect of the proposal on the privacy rights of individuals.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 9, 2012.
Kathleen S. Tighe,
Inspector General.

For the reasons discussed in the preamble, the Inspector General of the U.S. Department of Education publishes a notice of an altered system of records. The following amendments are made to the Notice of New System of Records entitled “The Office of Inspector General Data Analytics Program (ODAS)” (18-10-02), as published in the Federal Register on October 16, 2008 (73 FR 61406-61412):

1. On page 61409, third column, under the heading “PURPOSE(S)”, the paragraph is revised to read as follows:

PURPOSES:

This system of records is maintained for purposes of: (1) Enabling the Office of Inspector General (OIG) to fulfill the requirements of section (4)(a)(1), (3), and (4) of the Inspector General Act of 1978, as amended, which require OIG to provide policy direction for and to conduct, supervise, and coordinate audits and investigations relating to the programs and operations of the Department; to conduct, supervise and coordinate activities for the purpose of promoting economy and efficiency in the administration of, or preventing and detecting fraud, and abuse in, the programs and operations of the Department; and to conduct, supervise, or coordinate relationships between other Federal, State, and local agencies with respect to matters relating to economy and efficiency, or the prevention and detection of fraud, and abuse in programs and operations of the Department or the identification and prosecution of participants in such fraud, or abuse; (2) improving the efficiency, quality, and accuracy of existing data collected by the Department; (3) conducting data modeling for indications of fraud, waste, and abuse, and internal control weaknesses concerning Department programs and operations, the results of which may be used in the conduct of audits, investigations, inspections, or other activities as necessary to promote economy and efficiency and to prevent and detect fraud, waste, and abuse in Department programs and operations; and (4) coordinating relationships with other Federal, State, local, or foreign agencies or other public authorities responsible for assisting in the investigation, prosecution, oversight, or enforcement of violations of administrative, civil, or criminal law or regulations.

2. On page 61410, first column, under the heading “Routine Uses of Records Maintained in the System, including Categories of Users and the Purposes for Such Uses”, the paragraph labeled “(1) Disclosure for Use by Other Law Enforcement Agencies”, is revised to read as follows:

“(1) Disclosure for Use by Other Law Enforcement Agencies. The Department may disclose information from this system of records as a routine use to any Federal, State, local, foreign agency, or other public authority responsible for enforcing, investigating, prosecuting, overseeing, or assisting in the enforcement, investigation, prosecution, or oversight of, violations of administrative, civil, or criminal law or regulation if that information is relevant to any enforcement, regulatory, investigative, prosecutorial, or oversight responsibility of the Department or of the receiving entity.”

3. On page 61411, first column, under the heading “Routine Uses of Records Maintained in the System, including Categories of Users and the Purposes for Such Uses”, the paragraph labeled “Disclosure to the President's Council on Integrity and Efficiency (PCIE)”, is revised to read as follows:

“(12) Disclosure to the Council of Inspectors General for Integrity and Efficiency (CIGIE). The Department may disclose records as a routine use to members and employees of the CIGIE, or any successor entity, for the preparation of reports to the President and Congress on the activities of the Inspectors General.”

4. On page 61411, 2nd column, under the heading labeled “Safeguards”, paragraphs 1 and 2 are revised to read as follows:

“Access to data in ODAS is restricted to authorized users and is recorded in an access log. All physical access to the Department's site where this system of records is maintained is controlled and monitored by security personnel who check each individual entering the building for his or her employee or visitor badge. All data maintained in the system of records are kept on a secured and restricted private network and stored in a combination locked computer laboratory. ODAS is housed within a secure and controlled computer lab. Physical access to the lab is by authorized OIG personnel only. The general public does not have access to ODAS.

All information stored in this system is secured by using database encryption technology and is resistant to tampering and circumvention by unauthorized users. Access to data by all users will be monitored using both automated and manual controls. The information is accessed by users either on a “need to know” and intended systems usage basis or pursuant to a published routine use and consistent with the purposes of the system.

5. On page 61411, 3rd column, under the heading “SYSTEM MANAGER AND ADDRESS”, the paragraph is revised to read as follows:

SYSTEM MANAGER AND ADDRESS:

Director, Computer Assisted Assessment Techniques, Information Technology Audits and Computer Crimes Investigations, Department of Education, Office of Inspector General, 400 Maryland Avenue SW., PCP, Washington, DC 20202-1510.

[FR Doc. 2012-11617 Filed 5-11-12; 8:45 am]

BILLING CODE 4000-01-P